FEDERAL COMMUNICATIONS COMMISSION

[CC Docket No. 96-45; DA 03-3824]

ALLTEL Communications, Inc. for Designation as an Eligible Telecommunications Carrier and Rural Service Area Redefinition in North Carolina

AGENCY: Federal Communications Commission.

ACTION: Notice; solicitation of comments.

SUMMARY: In this document, the Wireline Competition Bureau sought comment on the ALLTEL Communications, Inc. (ALLTEL) petition. ALLTEL is seeking designation as an eligible telecommunications carrier (ETC) to receive federal universal service support for service offered throughout its licensed service area in the state of North Carolina. ALLTEL also requests that the Commission redefine certain rural service areas.

DATES: Comments are due on or before January 12, 2004. Reply comments are due on or before January 26, 2004.

ADDRESSES: Federal Communications Commission, 445 12th Street SW., Washington, DC 20554. See Supplementary Information for further filing instructions.

FOR FURTHER INFORMATION CONTACT: Karen Franklin, Attorney, Wireline Competition Bureau, Telecommunications Access Policy Division, (202) 418-7400, TTY (202) 418-0484.

SUPPLEMENTARY INFORMATION: This is a summary of the Commission's Public Notice, CC Docket No. 96-45, released November 26, 2003. On August 26, 2003, ALLTEL filed with the Commission a petition pursuant to section 214(e)(6) of the Communications Act of 1934, as amended, so that it can receive Federal universal service support in the state of North Carolina. ALLTEL also requests that the Commission redefine certain rural service areas pursuant to section 54.207 of the Commission's rules. ALLTEL provides commercial mobile radio services and seeks federal universal service support for its service offered in non-rural wire centers currently served by BellSouth Telecomm Inc., Verizon South, Inc.-NC, Verizon South, Inc. (CONTEL), and North State Telephone Co., and for service offered in rural wire centers currently served by ALLTEL Carolina, Inc., Atlantic Telephone Membership, Central Telephone Co., Concord Telephone Company, Ellerbe Telephone Co. Inc., Lexcom Telephone Company, Mebtel Inc., Piedmont Telephone Membership, Pineville Telephone Co., Randolph Telephone Co., Randolph Telephone Membership, Service Telephone Co., Sprint Mid-Atlantic, Star Telephone Membership, Surry Telephone Membership, Tri-County Telephone Membership, and Yadkin Valley Telephone Membership. ALLTEL has requested that the Commission consider ALLTEL's request to become an ETC in non-rural service areas separately from its rural area ETC designation requests, if such bifurcation would expedite Commission action on ALLTEL's ETC petitions as they relate to the non-rural service areas.

ALLTEL asserts that the North Carolina Utilities Commission (North Carolina Commission) does not regulate commercial mobile radio service providers for purposes of ETC designations and presents an order from the North Carolina Commission asserting its lack of jurisdiction. Hence, according to ALLTEL, the Commission has jurisdiction under section 214(e)(6) to consider and grant its petition. ALLTEL also maintains that it satisfies all the statutory and regulatory prerequisites for ETC designation and that designating ALLTEL as an ETC in areas served by rural LECs will serve the public interest.

In accordance with section 54.207 of the Commission's rules, ALLTEL requests that the Commission designate ALLTEL as an ETC in a service area defined along boundaries that differ from the incumbent rural local exchange carriers' study area boundaries. The service area requested by ALLTEL for ETC designation partially covers the study areas of ALLTEL Carolina, Inc., Central Telephone Company and Surry Telephone Membership Corporation. ALLTEL requests a redefinition of these rural service areas so each wire center in each of the respective study areas is designated as a separate service area. ALLTEL limits its redefinition request to those wire centers that ALLTEL serves in its entirety and notes that where ALLTEL serves only a portion of a wire center, it does not request ETC status for that wire center. ALLTEL maintains that the proposed redefinition of service areas for ETC purposes is consistent with the factors to be considered when redefining a rural telephone company service area, as enumerated by the Federal-State Joint Board on Universal Service.

The petitioner must provide copies of its petition to the North Carolina Commission. The Commission sent a copy of this Public Notice to the North Carolina Commission by overnight express mail to ensure that the North Carolina Commission is notified of the notice and comment period.

Pursuant to §§ 1.415 and 1.419 of the Commission's rules, 47 CFR 1.415, 1.419, interested parties may file comments as follows: comments are due on or before January 12, 2004, and reply comments are due on or before January 26, 2004. Comments may be filed using the Commission's Electronic Comment Filing System (ECFS) or by filing paper copies. See Electronic filing of Documents in Rulemaking Proceedings, 63 FR 24121, May 1, 1998.

Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply.

Parties who choose to file by paper must file an original and four copies of each filing. If more than one docket or rulemaking number appears in the caption of this proceeding, commenters must submit two additional copies for each additional docket or rulemaking number. Filings can be sent by hand or messenger delivery, by commercial overnight courier, or by first-class or overnight U.S. Postal Service mail (although we continue to experience delays in receiving U.S. Postal Service mail). The Commission's contractor, Natek, Inc., will receive hand-delivered or messenger-delivered paper filings for the Commission's Secretary at 236 Massachusetts Avenue NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street SW., Washington, DC 20554. All filings must be sent to the Commission's Secretary, Marlene H. Dortch, Office of the Secretary, Federal Communications Commission, 445 12th Street SW., Washington, DC 20554.

Parties also must send three paper copies of their filing to Sheryl Todd, Telecommunications Access Policy Division, Wireline Competition Bureau, Federal Communications Commission, 445 12th Street SW., Room 5-B540, Washington, DC 20554. In addition, commenters must send diskette copies to the Commission's copy contractor, Qualex International, Portals II, 445 12th Street SW., Room CY-B402, Washington, DC 20054.

Pursuant to § 1.1206 of the Commission's rules, 47 CFR 1.1206, this proceeding will be conducted as a permit-but-disclose proceeding in which ex parte communications are permitted subject to disclosure.

Federal Communications Commission.
Sharon Webber,
Deputy Chief, Wireline Competition Bureau, Telecommunications Access Policy Division.

[FR Doc. 03-32116 Filed 12-30-03; 8:45 am]

BILLING CODE 6712-01-P